DEPARTMENT OF THE INTERIOR

Bureau of Land Management

[OR-958-1430-ET; GPO-02-0040; OR-56288]

Partial Cancellation of Proposed Withdrawal; Oregon

AGENCY: Bureau of Land Management, Interior.

ACTION: Notice.

SUMMARY: The Bureau of Land Management has partially cancelled 118,000 acres of an application to withdraw approximately 151,970 acres of Federal lands to protect the nationally significant ecological and biological values of the Siskiyou Wild Rivers area. This Notice terminates the temporary segregation of the Federal lands described below from location and entry under the mining laws. All of the lands have been and will remain open to the public land and mineral leasing laws unless closed by other segregations of record.

EFFECTIVE DATE: May 21, 2002.

FOR FURTHER INFORMATION CONTACT: Matt Craddock, Bureau of Land Management, Medford District Office, 3040 Biddle Road, Medford, Oregon 97504, 541-618-2272.

SUPPLEMENTARY INFORMATION: A Notice of Proposed Withdrawal was published in the Federal Register on January 22, 2001, 66 FR 6663—6664, segregating approximately 151,970 acres of Federal lands from location and entry under the mining laws. Based on a review of the lands proposed for withdrawal and a review of the Medford Resource Management Planning objectives outlined in its Record of Decision dated June 1995, the Bureau of Land Management hereby cancels from the withdrawal application the following described lands:

Willamette Meridian

T. 37 S., R. 6 W.,

Sec. 31, W½.

T. 39 S., R. 6 W.,

Sec. 5, E½;

Sec. 8.

T. 33 S., R. 7 W.,

Secs. 18, 19, 30, and 31.

T. 34 S., R. 7 W.,

Secs. 7, 19, 30, and 31.

T. 35 S., R. 7 W.,

Secs. 3 to 10, inclusive, and

Secs. 15, 17, 18, and 19;

Sec. 20, W½.

T. 39 S., R. 7 W.,

Sec. 2.

T. 32 S., R. 8 W.,

Sec. 31.

T. 33 S., R. 8 W.,

Secs. 5 to 36, inclusive.

T. 34 S., R. 8 W.,

Secs. 2 to 5, inclusive, secs. 8 to 10, inclusive, secs. 15 to 17, inclusive;

Secs. 20 to 29, inclusive, and secs. 31 to 36, inclusive.

T. 35 S., R. 8 W.,

Secs. 1, 2, and secs. 6 to 36, inclusive.

T. 38 S., R. 8 W.,

Secs. 9, 15, 21, and 28.

T. 40 S., R. 8 W.,

Secs. 7, 10, 15, and secs. 17 to 20, inclusive;

Sec. 22, N½;

Sec. 33, S½NE¼, and S½; sec. 34.

T. 32 S., R. 9 W.,

Secs. 3 to 9, inclusive, secs. 17 to 22, inclusive, and secs. 24 to 35, inclusive.

T. 33 S., R. 9 W.,

Secs. 1 to 20, inclusive, secs. 23 to 27, inclusive, and secs. 29 to 34, inclusive.

T. 34 S., R. 9 W.,

Secs. 4 to 7, inclusive, secs. 16 to 21, inclusive, and secs. 27 to 36, inclusive.

T. 35 S., R. 9 W.,

Secs. 1 to 14, inclusive, secs. 17 to 20, inclusive, and secs. 23 to 36, inclusive.

T. 41 S., R. 9 W.,

Sec. 9.

Tps. 32, 33, and 34 S., R. 10 W.

T. 32 S., R.11 W.

The areas described aggregate approximately 118,000 acres, more or less, in Curry, Coos, Josephine, and Douglas Counties.

2. At 8:30 a.m., on May 21, 2002, the lands described above will be opened to location and entry under the United States mining laws subject to valid and existing rights, the provisions of existing withdrawals, other segregations of record, and the requirements of applicable law. Appropriation of any of the land described in this Notice under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

3. The Bureau of Land Management will continue to evaluate the remaining lands to consider whether or not to recommend a formal withdrawal to the Secretary of Interior.

Dated: February 4, 2002.
Robert D. DeViney, Jr.,
Chief, Branch of Realty and Records Services.

[FR Doc. 02-12675 Filed 5-20-02; 8:45 am]

BILLING CODE 4310-33-P